DEPARTMENT OF TRANSPORTATION

Federal Aviation Administration

14 CFR Part 71

[Airspace Docket No. 2000-ASW-20]

Establishment of Class D Airspace; Shreveport Downtown Airport, Shreveport, LA

AGENCY: Federal Aviation Administration (FAA), DOT.

ACTION: Final rule.

SUMMARY: This action establishes Class D airspace extending upward from the surface to but not including 1,600 feet mean sea level (MSL), within a 4.4-mile radius of the Shreveport Downtown Airport, Shreveport, LA. An air traffic control tower will provide air traffic control services for pilots operating at Shreveport Downtown Airport. The intended effect of this proposal is to provide adequate controlled airspace for aircraft operating in the vicinity of Shreveport Downtown Airport, Shreveport, LA.

EFFECTIVE DATE: 0901 UTC, May 17, 2001.

FOR FURTHER INFORMATION CONTACT: Donald J. Day, Airspace Branch, Air Traffic Division, Southwest Region, Federal Aviation Administration, Fort Worth, TX 76193-0520, telephone: 817-222-5593.

SUPPLEMENTARY INFORMATION:

History

On December 26, 2000, a proposal to amend 14 CFR part 71 to establish Class D airspace at Shreveport Downtown Airport, Shreveport, LA, was published in the Federal Register (65 FR 81452). The proposal was to establish Class D airspace extending upward from the surface to but not including 1,600 feet MSL, within a 4.4-mile radius of the Shreveport Downtown Airport, Shreveport, LA. This action is prompted by the commissioning of an air traffic control tower that provides air traffic control services for pilots operating at Shreveport Downtown Airport. The intended effect of this proposal is to provide adequate controlled airspace for aircraft operating in the vicinity of Shreveport Downtown Airport, Shreveport, LA.

Interested parties were invited to participate in this rulemaking proceeding by submitting written comments on the proposal to the FAA. No comments to the proposal were received. The rule is adopted as proposed, with the exception of minor editorial changes.

The coordinates for this airspace docket are based on North American Datum 83. Designated Class D airspace areas are published in paragraph 5000 of FAA Order 7400.9H, dated September 1, 2000, and effective September 16, 2000, which is incorporated by reference in 15 CFR 71.1. The Class D airspace designations listed in this document will be published subsequently in the order.

The Rule

This amendment to 14 CFR part 71 establishes Class D airspace, at Shreveport Downtown Airport, Shreveport, LA, extending upward from the surface to and including 1,600 feet MSL, within a 4.4-mile radius of the Shreveport Downtown Airport, excluding that airspace within the Barksdale AFB, LA and Shreveport Regional Airport, LA Class C Airspace areas.

The regulations adopted herein will not have substantial direct effects on the States, on the relationship between the national government and the States, or on the distribution of power and responsibilities among the various level of government. Therefore, it is determined that this final rule will not have federalism implications under Executive Order 13132.

Further, the FAA has determined that this regulation only involves an established body of technical regulations that require frequent and routine amendments to keep them operationally current. It, therefore, (1) is not a “significant regulatory action” under Executive Order 12866; (2) is not “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D, AND CLASS E AIRSPACE AREAS; AIRWAYS ROUTES; AND REPORTING POINTS

1. The authority citation for 14 CFR Part 71 continues to read as follows:

Authority: 49 U.S.C. 106(g), 40103, 40113, 40120, E.O. 10854; 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 5000 Class D airspace areas.

* * * * *

ASW LA D Shreveport Downtown Airport, LA [New]

Shreveport Downtown Airport, LA;

(Lat. 32°32′ 25″N., long. 93°44′ 42″W.);

Shreveport, Barksdale AFB, LA;

(Lat. 32°30′ 07″N., long. 93°39′ 46″W.);

Shreveport Regional Airport, LA;

(Lat. 32°26′ 48″N., long. 93°49′ 32″W.).

That airspace extending upward from the surface to but not including 1,600 feet MSL within a 4.4-mile radius of Shreveport Downtown Airport, excluding that airspace within the Barksdale AFB, LA and Shreveport Regional Airport, LA Class C Airspace areas. This Class D airspace area is effective during the specific dates and times established in advance by a Notice to Airmen. The effective date and time will thereafter be continuously published in the Airport Facility Directory.

* * * * *

Issued in Fort Worth, TX on March 13, 2001.
A.L. Viselli,
Acting Manager, Air Traffic Division, Southwest Region.

[FR Doc. 01-7063 Filed 3-21-01; 8:45 am]

BILLING CODE 4910-13-M